DEPARTMENT OF HOMELAND SECURITY

Federal Emergency Management Agency

[Internal Agency Docket No. FEMA-4609-DR; Docket ID FEMA-2022-0001]

Tennessee; Amendment No. 6 to Notice of a Major Disaster Declaration

Correction

In notice document 2022-11915 appearing on page 33804 in the issue of Friday, June 3, 2022, make the following correction:

On page 33805, in the second column, in the line second from the bottom, “11905” should read “11915”.

[FR Doc. C1-2022-11915 Filed 6-3-22; 4:15 pm]

BILLING CODE 0099-10-D